DEPARTMENT OF AGRICULTURE

Forest Service

DEPARTMENT OF THE INTERIOR

Bureau of Land Management

[OR-930-6310-PN-LITU; HAG 07-0097]

Notice of Availability of the Final Supplement to the 2004 Final Supplemental Environmental Impact Statement To Remove or Modify the Survey and Manage Mitigation Measure Standards and Guidelines.

AGENCIES: U.S. Forest Service (FS), Agriculture; Bureau of Land Management (BLM), Interior.

ACTION: Notice of availability.

SUMMARY: In accordance with the National Environmental Policy Act of 1969 (NEPA, 42 U.S.C. 4321 et seq.), the Federal Land Policy and Management Act of 1976 (FLPMA, 43 U.S.C. 1701 et seq.), and the National Forest Management Act of 1976 (NFMA, 16 U.S.C. 1600-1614 et seq.), the FS and BLM (collectively the Agencies) have prepared a Final Supplement to the 2004 Final Environmental Impact Statement To Remove or Modify the Survey and Manage Mitigation Measure Standards and Guidelines (2004 FSEIS). The Agencies are supplementing the analyses contained in the 2004 FSEIS, which proposes to amend Land and Resource Management Plans on National Forests and BLM Districts within the range of the northern spotted owl in western Oregon, western Washington and northwestern California.

The Final Supplement is now available. Requests to receive copies of the Final Supplement should be sent to the addresses listed below. Alternately, the Final Supplement is available on the Internet at http://www.reo.gov/s-m2006. Copies are also available for inspection at FS and BLM offices in western Washington, western Oregon and northwestern California.

DATES: Readers should note that the Secretary of Agriculture and the Secretary of the Interior are the responsible officials for this proposed action. Therefore, no administrative review (“appeal”) through the FS will be available on the Record of Decision (ROD) under 36 CFR part 217. Also no administrative review (“protest”) through the BLM will be available on the Final Supplement under 43 CFR 1610.5-2. Because there is no administrative review of the decision and because of the review period described above, the ROD(s) will not be signed until at least 30 days after the Environmental Protection Agency Notice of Availability for the Final Supplement appears in the Federal Register (see 40 CFR 1506.10(b)).

ADDRESSES: You may request copies of the Final Supplement, add your name to the mailing list, or submit written comments by either of the following methods. Submit mail to the agencies Survey and Manage Team, PO Box 2965, Portland, OR 97208, or submit e-mail to ORSMSEIS@blm.gov.

Comments may be submitted for 30 days.

Before including your address, phone numbers, e-mail address, or other personal identifying information in your comment, you should be aware that your entire comment—including your personal identifying information—may be made publicly available at any time. While you can ask us in your comment to withhold your personal identifying information from public review, we cannot guarantee that we will be able to do so. No public meetings have been scheduled. All comments received within 30 days will be considered by the decisionmakers.

FOR FURTHER INFORMATION CONTACT: Michael Haske, Chief, Branch of Forest Resources and Special Status Species, Bureau of Land Management, P.O. Box 2965, Portland, Oregon 97208, telephone (503) 808-6066 or Alan Christensen, Group Leader, Wildlife, Fisheries, Watershed, Soils and Range, Forest Service, P.O. Box 3623, Portland, Oregon 97208, telephone (503) 808-2922.

SUPPLEMENTARY INFORMATION: In January 2004 the Agencies released a Final Supplemental Environmental Impact Statement (2004 FSEIS) analyzing a proposal to remove the Survey and Manage Mitigation Measure from the Northwest Forest Plan. The Agencies subsequently released a ROD adopting that proposal. In August 2005 the U.S. District Court of the Western District of Washington found the 2004 FSEIS failed to: (1) “* * * analyze potential impacts to Survey and Manage species if they are not added to or are removed from the FS's and BLM's respective programs for special status species;” (2) “* * * provide a thorough analysis of their assumption that the late-successional reserves would adequately protect species that the Survey and Manage standard was introduced to protect, particularly in light of their previous positions in earlier environmental impact statements;” and (3) “* * * disclose and analyze flaws in their methodology for calculating the acreage in need of hazardous fuel treatments. Part of the cost analysis was similarly flawed because it relied on the acreage in need of hazardous fuel treatments in calculating the cost of the Survey and Manage standard.” The Final Supplement provides the additional information and analysis to address the deficiencies noted by the court, and it provides and analyzes new information available since publication of the 2004 FSEIS. In November 2006, in a different court case, the U.S. Court of Appeals for the Ninth Circuit found the Agencies' 2001 decision to change the category of the red tree vole and the subsequent 2003 removal of red tree vole from Survey and Manage following processes described in the Survey and Manage Standards and Guidelines constituted a BLM plan amendment that should have followed NEPA and applicable planning processes. To address this decision and its potential implications on other 2001 to 2003 species removals and category changes, the Final Supplement includes another no-action alternative that considers all species on Survey and Manage, and their assigned categories, when the previous Survey and Manage Record of Decision was signed in January 2001.

No sooner than 30 days following release of the Final Supplement, the Agencies will prepare a new ROD. A decision to select one of the action alternatives would amend the management direction in all 28 FS and BLM land and resource management plans in the Northwest Forest Plan area.

Lisa Freedman,
Director of Resource Planning & Monitoring, Region 6, USDA Forest Service.
James G. Kenna,
Associate State Director, Oregon/Washington, Bureau of Land Management.

[FR Doc. 07-3041 Filed 6-18-07; 8:45 am]

BILLING CODE 4310-33-P